DEPARTMENT OF COMMERCE

National Oceanic and Atmospheric Administration

50 CFR Part 635

[I.D. 082902A]

Atlantic Highly Migratory Species; Swordfish Quota Adjustment

AGENCY: National Marine Fisheries Service (NMFS), National Oceanic and Atmospheric Administration, Commerce.

ACTION: Adjustment of annual catch quotas.

SUMMARY: NMFS adjusts the 2002 fishing year directed fishery, incidental catch, and reserve category quotas for North Atlantic swordfish to account for underharvests from the 2000 and 2001 fishing years. The 2002 South Atlantic swordfish quota remains at 289.0 metric tons (mt) dressed weight (dw). This action is consistent with the Fishery Management Plan for Atlantic Tunas, Swordfish, and Sharks (FMP) and the provisions for swordfish quota adjustments.

DATES: Effective March 24, 2003, through May 31, 2003.

FOR FURTHER INFORMATION CONTACT: Tyson Kade at 301-713-2347; Fax: 301-713-1917.

SUPPLEMENTARY INFORMATION: The FMP and its implementing regulations at 50 CFR part 635 establish catch quotas and, as applicable, fishing category and seasonal subquotas, for the North and South Atlantic swordfish stocks. Under the FMP, these catch quotas are required to be consistent with recommendations of the International Commission for the Conservation of Atlantic Tunas (ICCAT). Additionally, the implementing regulations (50 CFR 635.27(c)(3)) require that, if total landings are above or below the applicable Atlantic swordfish quotas, the difference must be subtracted from, or added to, the following year's quota for the specific management category, provided such quota adjustments are consistent with ICCAT recommendations. Further, any carryover adjustments to the annual North Atlantic swordfish directed fishery quota must be apportioned equally between the two semiannual periods. Landings reports, submitted to the Southeast Fisheries Science Center, for the directed fisheries for North and South Atlantic swordfish, and estimates of the incidental catch of North Atlantic swordfish, indicate that the allocations for the respective fisheries were not completely harvested during the 2000 (June 1, 2000 through May 31, 2001) and 2001 (June 1, 2001 through May 31, 2002) fishing years.

North Atlantic Swordfish

The 2000 fishing year landings quota was 2,219.0 metric tons (mt) dressed weight (dw). Directed and incidental fishery landings of North Atlantic swordfish during the 2000 fishing year were reported to be 2,017.9 mt dw, leaving 201.1 mt dw available for carryover to the subsequent fishing year. In addition to the landings quota, the International Commission for the Conservation of Atlantic Tunas (ICCAT) allocated to the United States a dead discard allowance. In the 2000 fishing year, the dead discard allowance was 240.0 mt dw and the United States discarded an estimated 322.0 mt dw of dead swordfish. The 82.0 mt dw excess dead discards are required to be deducted from quota available to be harvested in the subsequent fishing year. Therefore, a net total of 119.1 mt dw of unharvested swordfish quota may be carried over from the 2000 fishing year.

On September 5, 2001, NMFS published notification in the Federal Register of an adjustment to the 2001 fishing year quota level from 2333.2 mt dw to 2,883 mt dw to account for the underharvest in the 1999 fishing year (66 FR 46401). The 2001 adjusted quota referenced in that Federal Register notice was incorrect. The correct adjusted quota level for the 2001 fishing year was 2,768.8 mt dw.

In order to comply with a recommendation made at the 2000 meeting of ICCAT, NMFS agreed to transfer up to 400 mt whole weight (ww) (300.8 mt dw) of unharvested U.S. swordfish quota in 2001 to Japan to account for excess dead discards of North Atlantic swordfish from Japanese vessels. However, the transfer would only apply to dead discards from a defined area. At the 2002 meeting, Japan indicated that a total of 215 mt ww (161.7 mt dw) of swordfish were discarded dead from the defined area. NMFS must therefore deduct 161.7 mt dw from the reserve quota category which was established in the November 20, 2002, rulemaking (67 FR 70023). Following the quota transfer to Japan, the reserve category has 139.1 mt dw remaining in the 2002 fishing year.

In the 2001 fishing year, the directed and incidental fishery landings of North Atlantic swordfish were reported to be 1,581.7 mt dw. The estimated amount of dead discards for the 2001 fishing year has not been determined yet and will be assessed later. Any excess dead discards will be deducted from the 2003 landings allowance. The underharvest for the 2001 fishing year, after accounting for the transfer from the reserve category, is 1,025.4 mt dw, which may be added to the underharvest from the 2000 fishing year for a total of 1,144.5 mt dw available for carry over to the 2002 fishing year as required by 50 CFR 635.27(c)(3).

South Atlantic Swordfish

Directed fishery landings of South Atlantic swordfish during the 2000 and 2001 fishing years were reported to be 93.8 mt dw and 69.8 mt dw, respectively. The quota for the 2000 and 2001 fishing years was 289.0 mt dw. Consequently, 195.2 mt dw and 219.2 mt dw were unharvested at the end of these fishing years. ICCAT recommended that the U.S. underharvest from 2000 may be carried over to 2003 in addition to the quotas specified for that year. Underharvests from 2001 and 2002 are ineligible for carryover because individual country quota levels in those years were not agreed by ICCAT, but established autonomously. Therefore, the 2002 U.S. quota for South Atlantic swordfish remains at the current level of 289.0 mt dw and 195.2 mt dw will be applied to 2003 in a separate action. There is no incidental catch quota for South Atlantic swordfish.

Classification

This action is taken under 50 CFR 635.27(c)(3)(ii) and (c)(3)(iii) and is exempt from review under Executive Order 12866.

Authority: 16 U.S.C. 971 et seq. and 1801 et seq.

Dated: March 18, 2003.
Richard W. Surdi,
Acting Director, Office of Sustainable Fisheries, National Marine Fisheries Service.

[FR Doc. 03-6957 Filed 3-21-03; 8:45 am]

BILLING CODE 3510-22-S